FEDERAL ELECTION COMMISSION

[Notice 2001-1]

Filing Dates for the California Special Election in the 32nd Congressional District

AGENCY: Federal Election Commission.

ACTION: Notice of filing dates for special election.

SUMMARY: California has scheduled a special election on April 10, 2001, to fill the U.S. House of Representatives seat in the Thirty-Second Congressional District held by the late Julian C. Dixon. Under California law, a majority winner in a special election is declared elected. Should no candidate achieve a majority vote, a Special Runoff Election will be held on June 5, 2001, among the top vote-getters of each qualified political party, including qualified independent candidates.

Committees participating in the California special elections are required to file pre- and post-election reports. Filing dates for these reports are affected by whether one or two elections are held.

FOR FURTHER INFORMATION CONTACT: Mr. Gregory J. Scott, Information Division, 999 E Street, NW., Washington, DC 20463; Telephone: (202) 694-1100; Toll Free (800) 424-9530.

SUPPLEMENTARY INFORMATION: All principal campaign committees of candidates who participate in the California Special General and Special Runoff Elections and all other political committees that support candidates in these elections shall file a 12-day Pre-General Report on March 29, 2001, with coverage dates from the close of the last report filed, or the day of the committee's first activity, whichever is later, through March 21, 2001; a Pre-Runoff Report on May 24, 2001, with coverage dates from March 22 through May 16, 2001; and a Post-Runoff Report on July 5, 2001, with coverage dates from May 17 through June 25, 2001.

All principal campaign committees of candidates in the Special General Election only and all other political committees that support candidates in the Special General Election shall file a 12-day Pre-General Report on March 29, 2001, with coverage dates from the close of the last report filed, or the day of the committee's first activity, whichever is later, through March 21, 2001; and a Post General Report on May 10, 2001, with coverage dates from March 22 through April 30, 2001.

All political committees that support candidates in the Special Runoff only shall file a 12-day Pre-Runoff Report on May 24, 2001, with coverage dates from the last report filed through May 16, 2001; and a Post-Runoff Report on July 5, 2001, with coverage dates from May 17 through June 25, 2001.

Committees filing monthly that support candidates in the California Special General or Special Runoff Elections should continue to file according to the non-election year monthly reporting schedule.

Calendar of Reporting Dates for California Special Elections
Report | Close of books ¹ | Reg./Cert. mailing date ² | Filing date
If only the special general is held (04/10/01), committees must file:
Pre-General | 03/21/01 | 03/26/01 | 03/29/01
Post-General | 04/30/01 | 05/10/01 | 05/10/01
Mid-Year | 06/30/01 | 07/31/01 | 07/31/01
If two elections are held, a committee involved in only the special general (04/10/01) must file:
Pre-General | 03/21/01 | 03/26/01 | 03/29/01
Mid-Year | 06/30/01 | 07/31/01 | 07/31/01
Committees involved in the special general (04/10/01) and the special runoff (06/05/01) must file:
Pre-General | 03/21/01 | 03/26/01 | 03/29/01
Pre-Runoff | 05/16/01 | 05/21/01 | 05/24/01
Post-Runoff | 06/25/01 | 07/05/01 | 07/05/01
Mid-Year | 06/30/01 | 07/31/01 | 07/31/01
Committees involved in only the special runoff (06/05/01) must file:
Pre-Runoff | 05/16/01 | 05/21/01 | 05/24/01
Post-Runoff | 06/25/01 | 07/05/01 | 07/05/01
Mid-Year | 06/30/01 | 07/31/01 | 07/31/01
¹ The period begins with the close of books of the last report filed by the committee. If the committee has filed no previous reports, the period begins with the date of the committee's first activity.
² Reports sent registered or certified mail must be postmarked by the mailing date; otherwise, they must be received by the filing date.

Dated: January 18, 2001.
Danny L. McDonald,
Chairman, Federal Election Commission.

[FR Doc. 01-2198 Filed 1-24-01; 8:45 am]

BILLING CODE 6715-01-P